DEPARTMENT OF HOUSING AND URBAN DEVELOPMENT

[Docket No. 5038-N-04]

Notice of Proposed Information Collection: Comment Request: Youthbuild Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: December 4, 2006.

ADDRESSES: Interested persons are invited to submit comments regarding this proposal. Comments should refer to the proposal by name and/or OMB Control Number and should be sent to: Shelia Jones, Reports Liaison Officer, Department of Housing and Urban Development, 451 7th Street, SW., Room 7232, Washington, DC 20410.

FOR FURTHER INFORMATION CONTACT: Karla Dailey or Priscilla Poindexter at telephone number 202-708-2035 (this is not a toll-free number).

SUPPLEMENTARY INFORMATION: The Department will submit the proposed information collection to OMB for review, as required by the Paperwork Reduction Act of 1995 (44 U.S.C. Chapter 35 as Amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Youthbuild Program.

OMB Control Number: 2506-0142.

Description of the need for the Information and proposed use: The Youthbuild Program was authorized under section 164 of the Housing and Community Development Act of 1992 (42 U.S.C. chapter 8011). Funded programs provide disadvantaged youth, predominately high school drop out with educational opportunities and job skills training. Information is collected from grant recipients to determine the use of funds and program results achieved. Information is also collected to allow the timely close-out of completed grants.

Agency form numbers, if applicable: HUD Forms 40211, Youthbuild Program Reports, SF1199A, Direct Deposit Sign-Up form, and HUD 27054, HUD LOCCS Voice Response System Access Authorization form.

Members of affected public: Public or private nonprofit agencies, including State or local housing agencies or authorities, State or units of local government, or any entity eligible to provide education and employment training under other Federal employment training programs.

Estimation of the total numbers of hours needed to prepare the Information collection including number of respondents, frequency of response, and hours of response: The HUD Form series 40211 is a semi-annual report. The Youthbuild grant life cycle is approximately 30 months with approximately 300 active grantees during any 12-month cycle. Fiscal Year 2006 is the last year that Youthbuild grants will be funded by the Department so that there will be a declining number of grantees reporting during the three-year cycle covered by this information request. Two of the forms in the series are submitted on a semi-annual basis and other of the forms submitted as the final submission at grant closeout. The SF1199A is submitted one-time by new grantees as is the form HUD 27004, unless an organization changes banking information. The total estimate of burden hours is 35,830 hours.

Status of the proposed information collection: This notice precedes a continuation of the existing burden hour request. It is a proposed reduction from the prior approved request of 121,280. This decrease is due primarily to a end of the administration of new grants at the Department beginning in Federal Fiscal Year 2007.

Authority: The Paperwork Reduction Act of 1995, 44 U.S.C. Chapter 35, as amended.

Dated: September 27, 2006.
Nelson R. Bregon,
General Deputy Secretary for Community Planning and Development.

[FR Doc. E6-16311 Filed 10-2-06; 8:45 am]

BILLING CODE 4210-67-P